DEPARTMENT OF ENERGY

Federal Energy Regulatory Commission

Combined Notice of Filings #2

Take notice that the Commission received the following electric rate filings:

Docket Numbers: ER10-2602-006; ER10-2604-003; ER10-2603-003; ER10-2609-005; ER10-2606-005.

Applicants: Escanaba Paper Company, Luke Paper Company, Rumford Paper Company, NewPage Energy Services, LLC, Consolidated Water Power Company.

Description: Supplement to Notice of Change in Status of NewPage Corporation.

Filed Date: 9/18/13.

Accession Number: 20130918-5034.

Comments Due: 5 p.m. e.t. 10/9/13.

Docket Numbers: ER13-2074-000; ER13-2074-001.

Applicants: E.ON Global Commodities North America LLC.

Description: Supplement to July 31, 2013 and August 16, 2013 E.ON Global Commodities North America LLC tariff filing.

Filed Date: 9/20/13.

Accession Number: 20130920-5054.

Comments Due: 5 p.m. e.t. 10/11/13.

Docket Numbers: ER13-2416-000.

Applicants: Pacific Gas and Electric Company.

Description: Notice of Termination of South Kern Solar Project E&P Agreement to be effective 8/16/2013.

Filed Date: 9/23/13.

Accession Number: 20130923-5000.

Comments Due: 5 p.m. e.t. 10/15/13.

Docket Numbers: ER13-2418-000.

Applicants: ITC Midwest LLC.

Description: Notice of Termination of ITC Midwest RS 10 to be effective 11/22/2013.

Filed Date: 9/23/13.

Accession Number: 20130923-5017.

Comments Due: 5 p.m. e.t. 10/15/13.

Docket Numbers: ER13-2419-000.

Applicants: PJM Interconnection, L.L.C.

Description: Queue Position Y1-001; Original Service Agreement No. 3645 to be effective 8/22/2013.

Filed Date: 9/23/13.

Accession Number: 20130923-5022.

Comments Due: 5 p.m. e.t. 10/15/13.

Docket Numbers: ER13-2420-000.

Applicants: ITC Midwest LLC.

Description: Notice of Termination of ITC Midwest RS 11 to be effective 11/22/2013.

Filed Date: 9/23/13.

Accession Number: 20130923-5023.

Comments Due: 5 p.m. e.t. 10/15/13.

Docket Numbers: ER13-2421-000.

Applicants: ITC Midwest LLC.

Description: Notice of Termination of ITC Midwest RS 14 to be effective 11/22/2013.

Filed Date: 9/23/13.

Accession Number: 20130923-5024.

Comments Due: 5 p.m. e.t. 10/15/13.

Docket Numbers: ER13-2422-000.

Applicants: ITC Midwest LLC.

Description: Notice of Termination of ITC Midwest RS 15 to be effective 11/22/2013.

Filed Date: 9/23/13.

Accession Number: 20130923-5025.

Comments Due: 5 p.m. e.t. 10/15/13.

Docket Numbers: ER13-2423-000.

Applicants: ITC Midwest LLC.

Description: Notice of Termination of ITC Midwest RS 100, 101 to be effective 11/22/2013.

Filed Date: 9/23/13.

Accession Number: 20130923-5026.

Comments Due: 5 p.m. e.t. 10/15/13.

Docket Numbers: ER13-2424-000.

Applicants: Portland General Electric Company.

Description: Rate Schedule 20. Agreement between PGE and CUB to be effective 9/23/2013.

Filed Date: 9/23/13.

Accession Number: 20130923-5066.

Comments Due: 5 p.m. e.t. 10/15/13.

Docket Numbers: ER13-2425-000.

Applicants: Black Hills Power, Inc.

Description: Black Hills Power, Inc. submits Changes to Attachment K to be effective 1/1/2014.

Filed Date: 9/23/13.

Accession Number: 20130923-5109.

Comments Due: 5 p.m. e.t. 10/15/13.

Docket Numbers: ER13-2426-000.

Applicants: Black Hills/Colorado Electric Utility Company, LP.

Description: Black Hills/Colorado Electric Utility Company, LP submits Changes to Attachment K to be effective 1/1/2014.

Filed Date: 9/23/13.

Accession Number: 20130923-5110.

Comments Due: 5 p.m. e.t. 10/15/13.

Docket Numbers: ER13-2427-000.

Applicants: Cheyenne Light, Fuel and Power Company.

Description: Cheyenne Light, Fuel and Power Company submits Changes to Attachment K to be effective 1/1/2014.

Filed Date: 9/23/13.

Accession Number: 20130923-5111.

Comments Due: 5 p.m. e.t. 10/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2013.
Nathaniel J. Davis, Sr.,
Deputy Secretary.

[FR Doc. 2013-23721 Filed 9-27-13; 8:45 am]

BILLING CODE 6717-01-P